DEPARTMENT OF THE INTERIOR

National Park Service

White-Tailed Deer Management Plan, Environmental Impact Statement, Catoctin Mountain Park, Maryland

AGENCY: National Park Service, Department of the Interior.

ACTION: Notice of intent to prepare an environmental impact statement for the White-tailed Deer Management Plan, Catoctin Mountain Park.

SUMMARY: Under the provisions of the National Environmental Policy Act of 1969, the National Park Service is preparing an environmental impact statement for a White-tailed Deer Management Plan for Catoctin Mountain Park. The purpose of this action is to develop a range of alternatives for white-tailed deer management that supports forest regeneration providing for long-term protection, conservation, and restoration of native species and cultural resources. Management of white-tailed deer is needed because the white-tailed deer population in the park has been continually increasing, and browsing by large number of deer in Catoctin Mountain Park could adversely affect park resources and natural processes such as species of special concern, forest regeneration, and cultural landscapes.

Preliminary alternatives to meet these objectives include fencing and repellents, reproductive control, direct reduction, a special public hunt, and a combination of these management strategies. A no action alternative will also be analyzed.

DATES: The Park Service will accept comments from the public until September 24, 2004. In addition, the National Park Service intends to conduct public scoping meetings in the Catoctin Mountain Park area. Please check local newspapers, the park's Web site (http://www.nps.gov/cato) or contact the name listed below to find out when and where these meetings will be held.

ADDRESSES: Information will be available for public review and comment at the Catoctin Mountain Park Visitor Center at 6602 Foxville Road (intersection of Maryland Route 77 and Park Central Road).

FOR FURTHER INFORMATION CONTACT: Scott Bell, Environmental Protection Specialist, Catoctin Mountain Park, (301) 416-0536. A scoping brochure has been prepared that details the issues identified to date, and possible alternatives to be considered. Copies of that information may be obtained from the Scott Bell, Environmental Protection Specialist, Catoctin Mountain Park, 6602 Foxville Road, Thurmont, Maryland 21788, (301) 416-0536, or Catoctin Mountain Park's Web site (http://www.nps.gov/cato).

SUPPLEMENTARY INFORMATION: If you wish to comment on the scoping brochure or on any other issues associated with the plan, you may submit your comments by any one of several methods. You may mail comments to Resource Management, Catoctin Mountain Park, 6602 Foxville Road, Thurmont, Maryland 21788. You may also comment via the Internet at http://parkplanning.nps.gov. Please submit Internet comments as a text file avoiding the use of special characters and any form of encryption. Please put in the subject line “Deer Management” and include your name and return address in your Internet message. If you do not receive a confirmation from the system that we have received your Internet message, contact Scott Bell at the Resource Management Office at (301) 416-0536. You may also hand-deliver comments to Catoctin Mountain Park Headquarters, 6602 Foxville Road, Thurmont, Maryland 21788.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: June 22, 2004.
Terry R. Carlstrom,
Regional Director, National Capital Region.

[FR Doc. 04-19393 Filed 8-24-04; 8:45 am]

BILLING CODE 4312-59-P